DEPARTMENT OF COMMERCE

National Oceanic and Atmospheric Administration

[0648-XC410]

Council Coordination Committee Meeting

AGENCY: National Marine Fisheries Service (NMFS), National Oceanic and Atmospheric Administration (NOAA), Commerce.

ACTION: Notice of a public meeting; information regarding the agenda.

SUMMARY: The National Marine Fisheries Service, Office of Sustainable Fisheries will host a hybrid meeting of the Council Coordination Committee, also known as the CCC, consisting of the Regional Fishery Management Council chairs, vice chairs, and executive directors from October 18 to October 20, 2022. This meeting will be chaired by the Mid-Atlantic Fishery Management Council. The intent of this meeting is to discuss issues of relevance to the Councils and NMFS, including issues related to the implementation of the Magnuson-Stevens Fishery Conservation and Management Reauthorization Act.

DATES: The meeting will begin at 1 p.m., on Tuesday, October 18, 2022, and recess at 5:30 p.m., or when business is complete. The meeting will reconvene at 9 a.m., on Wednesday, October 19, 2022, and recess at 5 p.m., or when business is complete. The meeting will reconvene on the final day at 9 a.m., on Thursday, October 20, 2022, and adjourn by 12:30 p.m., or when business is complete.

ADDRESSES: Meeting address: The meeting will be held at the Holiday Inn Washington Capitol, 550 C Street SW, Washington, DC 20024; telephone: (202) 479-4000.

The meeting will also be broadcast via webinar. Connection details and public comment instructions will be available at https://www.fisheries.noaa.gov/event/2022-october-council-coordination-committee-meeting

FOR FURTHER INFORMATION CONTACT: Sean Lawler by email at Sean.Lawler@noaa.gov or at (301) 427-8561.

SUPPLEMENTARY INFORMATION: The 2007 reauthorization of the Magnuson-Stevens Fishery Conservation and Management Act established the CCC. The CCC consists of the chairs, vice chairs, and executive directors of each of the eight Regional Fishery Management Councils, or their respective proxies. All sessions are open to the public and time will be set aside for public comments at the end of each day and after specific sessions at the discretion of the meeting Chair. The meeting Chair will announce public comment times and instructions to provide comment at the start of each meeting day. There will be opportunities for public comments to be provided in-person and remotely via webinar. Updates to this meeting, briefing materials, public comment instructions and additional information will be posted on https://www.fisheries.noaa.gov/event/2022-october-council-coordination-committee-meeting and http://www.fisherycouncils.org/ when available.

Proposed Agenda

Tuesday, October 18, 2022—1 p.m.—5:30 p.m. EDT

1. Opening of Meeting

2. Approval of Agenda and Minutes

3. NMFS Update and Upcoming Priorities

4. NMFS Budget Update

5. NMFS Science Update

6. Legislative Outlook

7. Climate Governance and Scenario Planning Updates

8. Public Comment

Adjourn Day 1

Wednesday, October 19, 2022—9 a.m.—5 p.m. EDT

1. Best Practices for Hybrid Meeting Operations

2. Preventing Harassment in Councils

3. International Issues

4. Equity and Environmental Justice

5. America the Beautiful Initiative

6. Northeast Regional Marine Fisheries Habitat Assessment Presentation

7. CCC Committee Updates

8. Public Comment

Adjourn Day 2

Thursday, October 20, 2022—9 a.m.—12:30 p.m. EDT

1. National Standard 1 (Technical Guidance)

2. FishWatch Update

3. Endangered Species Act—Magnuson-Stevens Act Integration

4. Public Comment

5. Wrap-up and Other Business

Adjourn Day 3

The order in which the agenda items are addressed may be adjusted by the meeting Chair to stay on time. The CCC will meet as late as necessary to complete scheduled business.

Special Accommodations

If you have particular access needs please contact Sean Lawler at sean.lawler@noaa.gov prior to the meeting for accommodation.

Dated: September 22, 2022.
Kelly Denit,
Director, Office of Sustainable Fisheries, National Marine Fisheries Service.

[FR Doc. 2022-20892 Filed 9-26-22; 8:45 am]

BILLING CODE 3510-22-P